FEDERAL COMMUNICATIONS COMMISSION

47 CFR Parts 15, 73, 74, and 76

[GN Docket No. 16-142; Report No. 3088]

Petitions for Reconsideration of Action in Rulemaking Proceeding

AGENCY: Federal Communications Commission.

ACTION: Petitions for Reconsideration.

SUMMARY: Petitions for Reconsideration (Petitions) have been filed in the Commission's Rulemaking proceeding by Rick Chessen, on behalf of NCTA—The Internet & Television Association (“NCTA”) and Michael Nilsson, on behalf of American Television Alliance (ATVA).

DATES: Oppositions to the Petition must be filed on or before April 13, 2018. Replies to an opposition must be filed on or before April 23, 2018.

ADDRESSES: Federal Communications Commission, 445 12th Street SW, Washington, DC 20554.

FOR FURTHER INFORMATION CONTACT: Evan Baranoff, Media Bureau, Policy Division, at: (202) 418-2120; email: Evan.Baranoff@fcc.gov.

SUPPLEMENTARY INFORMATION: This is a summary of the Commission's document, Report No. 3088, released March 22, 2018. The full text of the Petition is available for viewing and copying at the FCC Reference Information Center, 445 12th Street SW, Room CY-A257, Washington, DC 20554. It also may be accessed online via the Commission's Electronic Comment Filing System at: http://apps.fcc.gov/ecfs/. The Commission will not send a Congressional Review Act (CRA) submission to Congress or the Government Accountability Office pursuant to the CRA, 5.U.S.C. because no rules are being adopted by the Commission.

Subject: Authorizing Permissive Use of the “Next Generation” Broadcast Television Standard, Report and Order, FCC 17-158, published at 83 FR 4998, February 2, 2018, in GN Docket No. 16-142. This document is being published pursuant to 47 CFR 1.429(e). See also 47 CFR 1.4(b)(1) and 1.429(f), (g).

Number of Petitions Filed: 2.

Federal Communications Commission.
Katura Jackson,
Federal Register Liaison Officer, Office of the Secretary.

[FR Doc. 2018-06372 Filed 3-28-18; 8:45 am]

BILLING CODE 6712-01-P